DEPARTMENT OF LABOR

Office of the Secretary

Agency Information Collection Activities; Submission for OMB Review; Comment Request; Notice of Special Enrollment Rights Under Group Health Plans

Correction

In notice document 2012-30878, appearing on page 76073, in the issue of Wednesday, December 26, 2012, make the following correction:

In the first column, under the heading DATES, in the second line, “January 23, 2013” should read “January 25, 2013”.

[FR Doc. C1-2012-30878 Filed 1-23-13; 8:45 am]

BILLING CODE 1505-01-D